DEPARTMENT OF TRANSPORTATION

Federal Aviation Administration

14 CFR Part 39

[Docket No. FAA-2016-9527; Directorate Identifier 2016-CE-036-AD; Amendment 39-18748; AD 2016-25-22]

RIN 2120-AA64

Airworthiness Directives; Viking Air Limited Airplanes

AGENCY: Federal Aviation Administration (FAA), DOT.

ACTION: Final rule; request for comments.

SUMMARY: We are adopting a new airworthiness directive (AD) for all Viking Air Limited Models DHC-2 Mk. I, DHC-2 Mk. II, and DHC-2 Mk. III airplanes that supersedes AD 2016-19-08. This AD results from mandatory continuing airworthiness information (MCAI) issued by the aviation authority of another country to identify and correct an unsafe condition on an aviation product. The MCAI describes the unsafe condition as corrosion of the elevator control rod and of the elevator actuating lever on the control column, which could cause these components to fail. We are issuing this AD to require actions to address the unsafe condition on these products.

DATES: This AD is effective December 22, 2016.

The Director of the Federal Register approved the incorporation by reference of a certain publication listed in this AD as of October 24, 2016 (81 FR 64053, September 19, 2016).

We must receive comments on this AD by February 6, 2017.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Viking Air Limited Technical Support, 1959 De Havilland Way, Sidney, British Columbia, Canada, V8L 5V5; telephone: (North America) (800) 663-8444; fax: (250) 656-0673; email: technical.support@vikingair.com; Internet: http://www.vikingair.com/support/service-bulletins. You may review copies of the referenced service information at the FAA, Small Airplane Directorate, 901 Locust, Kansas City, Missouri 64106. For information on the availability of this material at the FAA, call (816) 329-4148. It is also available on the Internet at http://www.regulations.gov by searching for locating Docket No. FAA-2016-9527.

Examining the AD Docket

You may examine the AD docket on the Internet at http://www.regulations.gov by searching for and locating Docket No. FAA-2016-9527; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Aziz Ahmed, Aerospace Engineer, FAA, New York Aircraft Certification Office, 1600 Stewart Avenue, Suite 410, Westbury, New York 11590; telephone: (516) 228-7329; fax: (516) 794-5531; email: aziz.ahmed@faa.gov.

SUPPLEMENTARY INFORMATION:

Discussion

On September 8, 2016, we issued AD 2016-19-08, Amendment 39-18657 (81 FR 64053, September 19, 2016) (“AD 2016-19-08”). That AD required actions intended to address an unsafe condition on all Viking Air Limited (Viking) Models DHC-2 Mk. I, DHC-2 Mk. II, and DHC-2 Mk. III airplanes and was based on mandatory continuing airworthiness information (MCAI) originated by an aviation authority of another country.

There is a required action in AD 2016-19-08 to insert temporary revisions into the Airworthiness Limitations section of the FAA-approved maintenance program (e.g., maintenance manual). These revisions incorporate repetitive inspections of the elevator control rod assemblies, the elevator actuating lever, and the control column torque tube for corrosion, cracks, and/or other damage.

Viking Models DHC-2 Mk. I, DHC-2 Mk. II, and DHC-2 Mk. III airplanes are not certified under 14 CFR part 23—Airworthiness Standards: Normal, Utility, Acrobatic, and Commuter Category Airplanes and the associated FAA-approved maintenance program (e.g., maintenance manual) does not include an Airworthiness Limitations section. Therefore, the requirement in AD 2016-19-08 to insert Temporary Revision No.: 2-38, dated March 4, 2015, and Temporary Revision No.: 2T-14, dated March 4, 2015, into the Airworthiness Limitations section of the applicable Viking Aircraft DHC-2 Maintenance Manual is not enforceable.

Relative Service Information Under 1 CFR Part 51

We reviewed Viking Air Limited DHC-2 Beaver Service Bulletin Number: V2/0005, Revision `C', dated July 17, 2015. This service information describes procedures for doing detailed visual inspections of the elevator control rod assemblies, the elevator actuating lever on the control column, and the control column torque tube for corrosion, cracking, and/or other damage. This service bulletin also describes procedures for repairing or replacing damaged parts. This service information is reasonably available because the interested parties have access to it through their normal course of business or by the means identified in the ADDRESSES section of this AD.

FAA's Determination and Requirements of This AD

This product has been approved by the aviation authority of another country, and is approved for operation in the United States. Pursuant to our bilateral agreement with this State of Design Authority, they have notified us of the unsafe condition described in the MCAI and service information referenced above. We are issuing this AD because the way we addressed the actions in AD 2016-19-18 is unenforceable and the unsafe condition exists and is likely to exist or develop on other products of the same type design. The actions in this AD correct the unenforceability problem.

FAA's Determination of the Effective Date

An unsafe condition exists that requires the immediate adoption of this AD. The FAA has found that the risk to the flying public justifies waiving notice and comment prior to adoption of this rule because we have already provided public notice on the intent of the actions in this AD. This AD only clarifies the repetitive inspection requirements of AD 2016-19-08 by correcting the means by which the repetitive inspections are done (in the AD versus maintenance manual). Therefore, we determined that notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2016-9527; Directorate Identifier 2016-CE-036” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 135 products of U.S. registry. We also estimate that it will take about 11.5 work-hours per product to comply with the basic inspection requirements of this AD. The average labor rate is $85 per work-hour.

Based on these figures, we estimate the cost of the basic inspection requirements of this AD on U.S. operators to be $131,962.50, or $977.50 per product.

In addition, we estimate that any necessary follow-on actions will take about 8 work-hours and require parts costing $1,859, for a cost of $2,539 per product. Contact Viking Air Limited at the address identified in the ADDRESSES section of this AD for current pricing and lead time. We have no way of determining the number of products that may need these actions.

There is no estimated cost of compliance difference between this AD and AD 2016-19-08 since there is no change in the number of affected airplanes or in the required actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-18657 (81 FR 64053, September 19, 2016), and adding the following new AD:

2016-25-22 Viking Air Limited: Amendment 39-18748; Docket No. FAA-2016-9527; Directorate Identifier 2016-CE-036-AD.

(a) Effective Date

This airworthiness directive (AD) becomes effective December 22, 2016.

(b) Affected ADs

This AD replaces AD 2016-19-08, Amendment 39-18657 (81 FR 64053, September 19, 2016) (“AD 2016-19-08”).

(c) Applicability

This AD applies to Viking Air Limited Models DHC-2 Mk. I, DHC-2 Mk. II, and DHC-2 Mk. III airplanes, all serial numbers, certificated in any category.

(d) Subject

Air Transport Association of America (ATA) Code 27: Flight Controls.

(e) Reason

This AD was prompted by mandatory continuing airworthiness information (MCAI) originated by an aviation authority of another country to identify and correct an unsafe condition on an aviation product. The MCAI describes the unsafe condition as corrosion of the elevator control rod and of the elevator actuating lever on the control column. We are issuing this AD to detect and correct corrosion and/or cracking of the elevator control rod assemblies and the elevator actuating lever, which if not detected and corrected, could cause these components to fail. This failure could result in loss of control.

(f) Actions and Compliance

Comply with this AD within the compliance times specified in paragraphs (g) through (m) of this AD, unless already done.

(g) Initial Inspections

Within the next 120 days after October 24, 2016 (the effective date retained from AD 2016-19-08) or within the next 100 hours time-in-service (TIS) after October 24, 2016 (the effective date retained from AD 2016-19-08), whichever occurs first, do the following inspections in accordance with section I. PLANNING INFORMATION, paragraph D. of Viking DHC-2 Beaver Service Bulletin Number: V2/0005, Revision “C”, dated July 17, 2015:

(1) For airplanes with an installed elevator control rod assembly, part number (P/N) C2CF619A, do a detailed visual inspection of P/N C2CF619A for corrosion, cracking, and/or other damages.

(2) For airplanes with an installed elevator control rod assembly, P/N CT2CF1021-1, do a detailed visual inspection of P/N CT2CF1021-1 for corrosion, cracking, and/or other damages.

(3) For all airplanes, do a detailed visual inspection of the elevator actuating lever on the control column and the control column torque tube for corrosion, cracking and/or other damages.

(h) Repetitive Inspections

After each initial inspection required in paragraph (g) of this AD, at intervals not to exceed 400 hours TIS, repeat each inspection following section I. PLANNING INFORMATION, paragraph D.2. of Viking DHC-2 Beaver Service Bulletin Number: V2/0005, Revision “C”, dated July 17, 2015.

(i) Replacement/Repair for P/N C2CF619A

(1) If corrosion, cracking, or other damages are found during the initial inspection required in paragraph (g)(1) of this AD or any of the repetitive inspections required in paragraph (h) of this AD, before further flight, replace P/N C2CF619A with P/N C2CF619A-11 following section I. PLANNING INFORMATION, paragraph D. of Viking DHC-2 Beaver Service Bulletin Number: V2/0005, Revision “C”, dated July 17, 2015, or contact Viking Air Limited at the address specified in paragraph (q)(4) of this AD for an FAA-approved repair and incorporate the repair.

(2) Within the next 120 days after October 24, 2016 (the effective date retained from AD 2016-19-08) or within the next 100 hours TIS after October 24, 2016 (the effective date retained from AD 2016-19-08), whichever occurs first, you may replace P/N C2CF619A with P/N C2CF619A-11 instead of doing the initial inspection required in paragraph (g)(1) of this AD. Do the replacement following section I. PLANNING INFORMATION, paragraph D. of Viking DHC-2 Beaver Service Bulletin Number: V2/0005, Revision “C”, dated July 17, 2015.

(3) After replacing P/N C2CF619A with P/N C2CF619A-11, you must still do the repetitive inspections of the elevator control rod assemblies as required in paragraph (h) of this AD.

(j) Replacement/Repair for P/N CT2CF1021-1

(1) If corrosion, cracking, or other damages are found during the initial inspection required in paragraph (g)(2) of this AD or any of the repetitive inspections required in paragraph (h) of this AD, before further flight, replace the elevator control rod assembly with P/N CT2CF1021-1 that has been inspected and is free of corrosion, cracking, or other damages following section I. PLANNING INFORMATION, paragraph D. of Viking DHC-2 Beaver Service Bulletin Number: V2/0005, Revision “C”, dated July 17, 2015, or contact Viking Air Limited at the address specified in paragraph (q)(4) of this AD for an FAA-approved repair and incorporate the repair.

(2) After replacing or repairing P/N CT2CF1021-1, you must still do the repetitive inspections of the elevator control rod assemblies as required in paragraph (h) of this AD.

(k) Repair of the Elevator Actuating Lever

If corrosion, cracking, or other damages are found during the initial inspection required in paragraph (g)(3) of this AD and any of the repetitive inspections required in paragraph (h) of this AD, before further flight, contact Viking Air Limited at the address specified in paragraph (q)(4) of this AD for an FAA-approved repair and incorporate the repair.

(l) Restrictions

As of December 22, 2016 (the effective date of this AD), do not install P/N C2CF619A or C2CF619A-9 as a replacement part.

(m) Life Limit for P/N C2CF619A

As of October 24, 2016 (the effective date retained from AD 2016-19-08), elevator control rod assemblies, P/N C2CF619A, are life-limited to 15 years and must be replaced with P/N C2CF619A-11, which is not a life-limited part, at the following compliance time:

(1) As of October 24, 2016 (the effective date retained from AD 2016-19-08), if the age of the installed P/N C2CF619A is known, it must be replaced before exceeding the life limit or within the next 12 months after October 24, 2016 (the effective date retained from AD 2016-19-08), whichever occurs later.

(2) As of October 24, 2016 (the effective date retained from AD 2016-19-08), if the age of the installed P/N C2CF619A is not known, it must be replaced within the next 12 months after October 24, 2016 (the effective date retained from AD 2016-19-08).

(n) Credit for Actions Accomplished in Accordance With Previous Service Information

Credit will be given for the initial inspections required in paragraphs (g)(1) through (3) of this AD if they were done before October 24, 2016 (the effective date retained from AD 2016-19-08) following Viking Air Limited DHC-2 Beaver Service Bulletin Number: V2/0005, Revision `NC', dated March 26, 2012; Viking Air Limited DHC-2 Beaver Service Bulletin Number: V2/0005, Revision `A', dated November 7, 2014; or Viking Air Limited DHC-2 Beaver Service Bulletin Number: V2/0005, Revision `B', dated March 4, 2015.

(o) Other FAA AD Provisions

The following provisions also apply to this AD:

(1) Alternative Methods of Compliance (AMOCs): The Manager, New York Aircraft Certification Office (ACO), FAA, has the authority to approve AMOCs for this AD, if requested using the procedures found in 14 CFR 39.19. Send information to ATTN: Aziz Ahmed, Aerospace Engineer, FAA, New York ACO, 1600 Stewart Avenue, Suite 410, Westbury, New York 11590; telephone: (516) 228-7329; fax: (516) 794-5531; email: aziz.ahmed@faa.gov.

(i) Before using any approved AMOC on any airplane to which the AMOC applies, notify your appropriate principal inspector (PI) in the FAA Flight Standards District Office (FSDO), or lacking a PI, your local FSDO.

(ii) AMOCs approved for AD 2016-19-08, Amendment 39-18657 (81 FR 64053, September 19, 2016) are approved as AMOCs for this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(p) Related Information

Refer to MCAI Transport Canada AD No. CF-2015-21, dated July 30, 2015; Viking Air Limited DHC-2 Beaver Service Bulletin Number: V2/0005, Revision `NC', dated March 26, 2012; Viking Air Limited DHC-2 Beaver Service Bulletin Number: V2/0005, Revision `A', dated November 7, 2014; Viking Air Limited DHC-2 Beaver Service Bulletin Number: V2/0005, Revision `B', dated March 4, 2015; Temporary Revision No.: 2-38, dated March 4, 2015, of VIKING PSM NO.: 1-2-2, AIRCRAFT: DHC-2 BEAVER, SERIES: ALL, PUBLICATION: MAINTENANCE MANUAL; and Temporary Revision No.: 2T-14, dated March 4, 2015, of VIKING PSM NO.: 1-2T-2, AIRCRAFT: DHC-2 TURBO BEAVER, SERIES: ALL, PUBLICATION: MAINTENANCE MANUAL, for related information. You may examine the MCAI on the Internet at http://www.regulations.gov by searching for and locating Docket No. FAA-2016-9527.

(q) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on October 24, 2016 (81 FR 64053, September 19, 2016).

(i) Viking DHC-2 Beaver Service Bulletin Number: V2/0005, Revision “C”, dated July 17, 2015.

(ii) Reserved.

(4) For Viking Air Limited service information identified in this AD, contact Viking Air Limited Technical Support, 1959 De Havilland Way, Sidney, British Columbia, Canada, V8L 5V5; Fax: 250-656-0673; telephone: (North America) (800) 663-8444; email: technical.support@vikingair.com; Internet: http://www.vikingair.com/support/service-bulletins.

(5) You may view this service information at FAA, Small Airplane Directorate, 901 Locust, Kansas City, Missouri 64106. For information on the availability of this material at the FAA, call (816) 329-4148. It is also available on the Internet at http://www.regulations.gov by searching for locating Docket No. FAA-2016-9527.

(6) You may view this service information that is incorporated by reference at the National Archives and Records Administration (NARA). For information on the availability of this material at NARA, call 202-741-6030, or go to: http://www.archives.gov/federal-register/cfr/ibr-locations.html.

Issued in Kansas City, Missouri on December 8, 2016.
Pat Mullen,
Acting Manager, Small Airplane Directorate, Aircraft Certification Service.

[FR Doc. 2016-30039 Filed 12-21-16; 8:45 am]

BILLING CODE 4910-13-P